DEPARTMENT OF HEALTH AND HUMAN SERVICES

Administration for Children and Families

Submission for OMB Review; Comment Request

Title: Information Comparison With Insurance Data.

OMB No.: 0970-0342.

Description: The Deficit Reduction Act of 2005 amended Section 452 of the Social Security Act (the Act) to authorize the Secretary, through the Federal Parent Locator Service (FPLS), to conduct comparisons of information concerning individuals owing past-due child support with information maintained by insurers (or their agents) concerning insurance claims, settlements, awards, and payments. 42 U.S.C. 652(m)(1).

An insurer may choose to participate in the data comparison using one of the following methods:

• An insurer submits information concerning claims, settlements, awards, and payments to the federal Office of Child Support and Enforcement (OCSE). OCSE compares the information with parents who owe past-due support.

• OCSE sends a file containing information about parents who owe past-due support to the insurer, or their agent to compare with their claims, settlements, awards, and payments. The insurer or their agent sends the matches to OCSE.

On a daily basis, OCSE sends the results of the comparison in the Insurance Match Response Record to child support agencies responsible for collecting past-due support. Child support agencies use the matches to collect past-due support from the insurance proceeds.

The information collection activities pertaining to the information comparison with insurance data are authorized by:

(1) 42 U.S.C. 652(a)(9) which requires the federal Office of Child Support Enforcement (OCSE) to operate the FPLS established by 42 U.S.C. 653(a)(1); and

(2) 42 U.S.C. 652(m) which authorizes OCSE, through the FPLS, to compare information concerning individuals owing past-due support with information maintained by insurers (or their agents) concerning insurance claims, settlements, awards, and payments, and to furnish information resulting from the data matches to the state child support agencies responsible for collecting child support from the individuals.

Respondents: Insurers or their agents, including the U.S. Department of Labor and state agencies administering workers' compensation programs, and the Insurance Services Office (ISO).

Annual Burden Estimates
Instrument | Number of respondents | Number of responses per respondent | Average burden hours per response | Total burden hours
Insurance Match File: Monthly Reporting Electronically | 22 | 12 | 0.083 | 22
Insurance Match File: Weekly Reporting Electronically | 7 | 52 | 0.083 | 30
Insurance Match File: Daily Reporting Electronically | 2 | 251 | 0.083 | 42
Match File: Daily Reporting Manually | 80 | 251 | 0.1 | 2,008
Total |  |  |  | 2,102

Estimated Total Annual Burden Hours: 2,102 hours.

Additional Information: Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
Reports Clearance Officer.

[FR Doc. 2017-21960 Filed 10-11-17; 8:45 am]

BILLING CODE 4184-41-P